DEPARTMENT OF COMMERCE

International Trade Administration

[A-570-916]

Postponement of Preliminary Determination of Antidumping Duty Investigation: Laminated Woven Sacks From the People's Republic of China

AGENCY: Import Administration, International Trade Administration, Department of Commerce.

DATES: Effective Date: November 23, 2007.

FOR FURTHER INFORMATION CONTACT: Catherine Bertrand or Javier Barrientos, Import Administration, International Trade Administration, U.S. Department of Commerce, 14th Street and Constitution Avenue, NW., Washington, DC 20230; telephone: (202) 482-3207 or (202) 482-2243, respectively.

Postponement of Preliminary Determination

On July 18, 2007, the Department of Commerce (“Department”) initiated the antidumping duty investigation of laminated woven sacks from the People's Republic of China. See Laminated Woven Sacks from the People's Republic of China: Initiation of Antidumping Duty Investigation, 71 FR 40833 (July 25, 2007). The notice of initiation stated that the Department would make its preliminary determination for this antidumping duty investigation no later than 140 days after the date of issuance of the initiation.

On November 9, 2007, the Laminated Woven Sacks Committee and its individual members, Bancroft Bags, Inc., Coating Excellence International, LLC, Hood Packaging Corporation, Mid-America Packaging, LLC, and Polytex Fibers Corporation (collectively, “Petitioners”) made a timely request pursuant to 19 CFR 351.205(e) for a fifty-day postponement of the preliminary determination, until January 24, 2008. Petitioners requested postponement of the preliminary determination to allow the Department additional time in which to review the complex questionnaire responses and issue requests for clarification and additional information.

For the reasons identified by the Petitioners, and because there are no compelling reasons to deny the request, the Department is postponing the preliminary determination under section 733(c)(1)(A) of the Tariff Act of 1930, as amended (“the Act”), by fifty days to January 24, 2008. The deadline for the final determination will continue to be 75 days after the date of the preliminary determination, unless extended.

This notice is issued and published pursuant to sections 733(c)(2) of the Act and 19 CFR 351.205(f)(1).

Dated: November 14, 2007.
David Spooner,
Assistant Secretary for Import Administration.

[FR Doc. E7-22862 Filed 11-21-07; 8:45 am]

BILLING CODE 3510-DS-P